DEPARTMENT OF THE INTERIOR

National Park Service

[NPS-WASO-CR-14621; PPWOCRADI0, PCU00RP14.R50000]

Proposed Information Collection; Archeology Permit Applications and Reports

AGENCY: National Park Service, Interior.

ACTION: Notice; request for comments.

SUMMARY: We (National Park Service, NPS) will ask the Office of Management and Budget (OMB) to approve the information collection (IC) described below. As required by the Paperwork Reduction Act of 1995 and as part of our continuing efforts to reduce paperwork and respondent burden, we invite the general public and other Federal agencies to take this opportunity to comment on this IC. This IC is scheduled to expire on June 30, 2014. We may not conduct or sponsor and a person is not required to respond to a collection of information unless it displays a currently valid OMB control number.

DATES: To ensure that we are able to consider your comments on this IC, we must receive them by March 24, 2014.

ADDRESSES: Send your comments on the IC to Madonna L. Baucum, Information Collection Clearance Officer, National Park Service, 1849 C Street NW., (2601), Washington, DC 20240 (mail); or madonna_baucum@nps.gov (email). Please include “1024-0037” in the subject line of your comments.

FOR FURTHER INFORMATION CONTACT: To request additional information about this IC, contact Karen Mudar at Karen_Mudar@nps.gov (email) or 202-354-2103 (telephone).

SUPPLEMENTARY INFORMATION:

I. Abstract

Section 4 of the Archeological Resources Protection Act (ARPA) of 1979 (16 U.S.C 470cc), and Section 3 of the Antiquities Act (AA) of 1906 (16 U.S.C. 432), authorize any individual or institution to apply to Federal land managing agencies to scientifically excavate or remove archeological resources from public or Indian lands. A permit is required for any archeological investigation by non-NPS personnel occurring on parklands, regardless of whether or not these investigations are linked to regulatory compliance. Archeological investigations that require permits include excavation, shovel-testing, coring, pedestrian survey (with and without removal of artifacts), underwater archeology, photogrammetry, and rock art documentation. Individuals, academic and scientific institutions, museums, and businesses that propose to conduct archeological field investigations on parklands must first obtain a permit before the project may begin.

To apply for a permit, applicants submit DI Form 1926 (Application for Permit for Archeological Investigations). In general, an application includes, but is not limited to, the following information:

Statement of Work.

Statement of Applicant's Capabilities.

Statement of Applicant's Past Performance.

Curriculum vitae for Principal Investigator(s) and Project Director(s).

Written consent by State or tribal authorities to undertake the activity on State or tribal lands that are managed by the NPS, if required by the State or tribe.

Curation Authorization.

Detailed Schedule of All Project Activities.

Persons receiving a permit must submit the following reports:

• Preliminary Reports. Within 6 weeks of completion of the field component of the research project, the permittee must submit a preliminary report that describes the fieldwork, including accomplishments, methods used to accomplish the work, names of individuals that carried out the fieldwork, maps, any GPS data, information about any newly recorded archeological sites, and any professional recommendations. If fieldwork involves only minor work and/or minor findings, a final report may be submitted in place of the preliminary report.

• Annual Reports. If the permit extends for more than 1 year, we require an annual progress report. The report must detail the extent of work accomplished to date, and how much work remains to be carried out.

• Final Reports. Within 6 months of completion of the field component of the research project, the permittee must submit a final report for review by the regional director.

II. Data

OMB Control Number: 1024-0037.

Title: Archeology Permit Applications and Reports-43 CFR 3 and 7.

Form Number(s): DI-1926.

Type of Request: Extension of a currently approved collection.

Description of Respondents: Individuals or organizations wishing to excavate or remove archeological resources from public or Indian lands.

Respondent's Obligation: Required to obtain or retain a benefit.

Frequency of Collection: On occasion.

Activity | Number of respondents | Number of annual responses | Average time per response (hours) | Total annual burden hours
Applications for Archeology Permits | 452 | 452 | 2.5 | 1,130
Reporting—Archeology Permits | 452 | 452 | .5 | 226
Totals | 904 | 904 | 3.0 | 1,356

Estimated Annual Nonhour Cost Burden: None.

III. Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that we will be able to do so.

Dated: January 14, 2014.
Madonna L. Baucum,
Information Collection Clearance Officer, National Park Service.

[FR Doc. 2014-01009 Filed 1-17-14; 8:45 am]

BILLING CODE 4310-EH-P